DEPARTMENT OF VETERANS AFFAIRS

Joint Biomedical Laboratory Research and Development and Clinical Science Research and Development Services Scientific Merit Review Board Notice of Meetings

The Department of Veterans Affairs (VA) gives notice under Public Law 92-463; Title 5 U.S.C. App. 2 (Federal Advisory Committee Act) that the subcommittees of the Joint Biomedical Laboratory Research and Development and Clinical Science Research and Development Services Scientific Merit Review Board (JBL/CS SMRB) will meet from 8:00 a.m. to 5:00 p.m. on the dates indicated below (unless otherwise listed):

Subcommittee | Date | Location
Surgery | November 16, 2016 | Residence Inn Arlington Pentagon City.
Infectious Diseases-B | November 17, 2016 | Hilton Crystal City—Reagan National Airport.
Oncology-A/D | November 17, 2016 | Hilton Crystal City—Reagan National Airport.
Hematology | November 18, 2016 | Hilton Crystal City—Reagan National Airport.
Oncology-C | November 18, 2016 | Hilton Crystal City—Reagan National Airport.
Cellular & Molecular Medicine Oncology-E | November 21, 2016 November 21, 2016 | * VA Central Office. Hilton Crystal City—Reagan National Airport.
Oncology-B | November 28, 2016 | Hilton Crystal City—Reagan National Airport.
Infectious Diseases-A | November 29, 2016 | * VA Central Office
Mental Health & Behavioral Sciences-A | November 29, 2016 | Hilton Crystal City—Reagan National Airport.
Nephrology | November 29, 2016 | Hilton Crystal City—Reagan National Airport.
Epidemiology | November 30, 2016 | * VA Central Office.
Immunology-A | November 30, 2016 | Hilton Crystal City—Reagan National Airport.
Mental Health & Behavioral Sciences-B | November 30, 2016 | Hilton Crystal City—Reagan National Airport.
Cardiovascular Studies-A | December 1, 2016 | Hilton Crystal City—Reagan National Airport.
Endocrinology-B | December 1, 2016 | Hilton Crystal City—Reagan National Airport.
Neurobiology-C | December 1, 2016 | Hilton Crystal City—Reagan National Airport.
Pulmonary Medicine | December 1, 2016 | Hilton Crystal City—Reagan National Airport.
Neurobiology-A | December 2, 2016 | Hilton Crystal City—Reagan National Airport.
Neurobiology-E | December 2, 2016 | Hilton Crystal City—Reagan National Airport.
Special Emphasis on Genomics | December 2, 2016 | * VA Central Office.
Endocrinology-A | December 5, 2016 | Hyatt Regency Washington.
Neurobiology-B | December 6, 2016 | Hilton Crystal City—Reagan National Airport.
Neurobiology-F | December 6, 2016 | * VA Central Office.
Cardiovascular Studies-B | December 8, 2016 | Hilton Crystal City—Reagan National Airport.
Gastroenterology | December 8, 2016 | Hilton Crystal City—Reagan National Airport.
Neurobiology-D | December 9, 2016 | Hilton Crystal City—Reagan National Airport.
Neurobiology-R | December 9, 2016 | * VA Central Office.
Gulf War Research | December 9, 2016 | * VA Central Office.
Jt BL/CS SMRB | January 26, 2017 | * VA Central Office.
Eligibility | January 27, 2017 | Hyatt Regency Washington.
The addresses of the meeting sites are:
Hilton Crystal City—Reagan National Airport, 2399 Jefferson Davis Hwy., Arlington, VA.
Hyatt Regency Washington on Capitol Hill, 400 New Jersey Avenue NW., Washington, DC.
VA Central Office, 1100 First Street NE., Suite 600, Washington, DC.
* Teleconference.

The purpose of the subcommittees is to provide advice on the scientific quality, budget, safety and mission relevance of investigator-initiated research proposals submitted for VA merit review evaluation. Proposals submitted for review include diverse medical specialties within the general areas of biomedical, behavioral and clinical science research.

These subcommittee meetings will be closed to the public for the review, discussion, and evaluation of initial and renewal research proposals, which involve reference to staff and consultant critiques of research proposals. Discussions will deal with scientific merit of each proposal and qualifications of personnel conducting the studies, the disclosure of which would constitute a clearly unwarranted invasion of personal privacy. Additionally, premature disclosure of research information could significantly frustrate implementation of proposed agency action regarding the research proposals. As provided by subsection 10(d) of Public Law 92-463, as amended by Public Law 94-409, closing the subcommittee meetings is in accordance with Title 5 U.S.C. 552b(c)(6) and (9)(B).

Those who would like to obtain a copy of the minutes from the closed subcommittee meetings and rosters of the subcommittee members should contact Holly Krull, Ph.D., Manager, Merit Review Program (10P9B), Department of Veterans Affairs, 810 Vermont Avenue NW., Washington, DC 20420, at (202) 632-8522 or email at holly.krull@va.gov.

Dated: September 30, 2016.
LaTonya L. Small,
Advisory Committee Management Officer.

[FR Doc. 2016-24074 Filed 10-4-16; 8:45 am]

BILLING CODE 8320-01-P